SECURITIES AND EXCHANGE COMMISSION

Issuer Delisting; Notice of Application To Withdraw From Listing and Registration; (Reunion Industries, Inc., Common Stock, $.01 Par Value) File No. 1-15739

June 5, 2000.

Reunion Industries, Inc. (“Company”) has filed an application with the Securities and Exchange Commission (“Commission”), pursuant to Section 12(d) of the Securities Exchange Act of 1934 (“Act”) ¹ and Rule 12d2-2(d) thereunder,² to withdraw its Common Stock, $.01 par value (“Security”), from listing and registration on the Pacific Exchange, Inc. (“PCX”).

¹ 15 U.S.C. 78l(d).

² 17 CFR 240.12d2-2(d).

Following the completion of its merger with Chatwins Group, Inc., on March 16, 2000, the Company, whose Security has been listed on the PCX, additionally effected its listing and registration on the American Stock Exchange (“Amex”). Trading in the Security on the Amex began on March 23, 2000. The Company's board of directors subsequently determined that the Security's limited trading volume on the PCX, compared with that on the Amex, did not justify the cost of maintaining such listing. On March 27, 2000, therefore, the Company's board passed a resolution authorizing the withdrawal of the Security from listing and registration on the PCX.

The PCX, having determined that the Company complied with the rules of the PCX governing the withdrawal of the Security from listing and registration, has indicated by letter to the Company that it shall not interpose any objection to the proposed withdrawal. The matter was considered and decided by the Equity Listings Committee of the PCX at a meeting held on May 2, 2000.

The Company's application relates solely to the withdrawal of the Security from listing and registration on the PCX and shall have no effect upon the Security's continued listing and registration on the Amex under Section 12(b) of the Act.³

³ 15 U.S.C. 78l(b).

Any interested persons may, on or before June 26, 2000, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 00-14719 Filed 6-9-00; 8:45 am]

BILLING CODE 8010-01-M